DEPARTMENT OF ENERGY

Federal Energy Regulatory Commission

[Docket No. CP01-409-000]

Calypso Pipeline, L.L.C.; Notice of Intent To Prepare an Environmental Impact Statement for the Proposed Request Calypso Natural Gas Pipeline Project, Request for Comments on Environmental Issues, and Notice of a Public Scoping Meeting and Site Visit

August 31, 2001.

The staff of the Federal Energy Regulatory Commission (FERC or Commission) and the Minerals Management Service (MMS) will prepare an Environmental Impact Statement (EIS) that will analyze the environmental impacts of the proposed Calypso Natural Gas Pipeline Project involving construction and operation of facilities by Calypso Pipeline, L.L.C. (Calypso).¹ The proposed pipeline originates in the Bahamas and would come ashore at Port Everglades, Florida. These facilities would consist of about 41.8 miles of 24-inch diameter pipeline (approximately 36.0 miles offshore and approximately 5.8 miles onshore), a meter and pressure regulation station with a pig receiver, and 2 block valves. This EIS will be used by the Commission in its decision-making process to determine whether the project is in the public convenience and necessity. The MMS will have primary responsibility for offshore analysis in U.S. waters and will coordinate with the U.S. Army Corps of Engineers regarding Florida state waters review.

¹ Calypso's application was filed with the Commission on July 20, 2001, under Section 7(c) of the Natural Gas Act as amended, and Parts 157 and 284 of the Commission's regulations.

The application and other supplemental filings in this docket are available for viewing on the FERC Internet Web site (www.ferc.gov). Click on the “RIMS” link, select “Docket #” from the RIMS Menu, and follow the instructions. General information about the MMS and detailed information regarding Florida state and Federal waters can be accessed at the MMS Internet Web site (www.mms.gov).

The FERC is the lead agency and the MMS is a Federal cooperating agency for this project because the MMS has jurisdiction by law as well as special expertise regarding the potential environmental impacts associated with that portion of the proposed pipeline that would be installed on the Outer Continental Shelf.

If you are a landowner receiving this notice, you may be contacted by a pipeline company representative about the acquisition of an easement to construct, operate, and maintain the proposed facilities. The pipeline company would seek to negotiate a mutually acceptable agreement. However, if the project is approved by the Commission, that approval conveys with it the right of eminent domain. Therefore, if easement negotiations fail to produce an agreement, the pipeline company could initiate condemnation proceedings in accordance with state law.

A fact sheet prepared by the FERC entitled “An Interstate Natural Gas Facility On My Land? What Do I Need To Know?” was attached to the project notice that Calypso provided to landowners. This fact sheet addresses a number of typically asked questions, including the use of eminent domain and how to participate in the Commission's proceedings. It is available for viewing on the FERC Internet Web site (www.ferc.gov).

Summary of the Proposed Project

Florida is experiencing a substantial increase in demand for electric power as a result of population growth in the state. Calypso's proposed project would transport into Florida up to 832 million standard cubic feet per day of natural gas. The project would deliver the gas to an interconnect with the Florida Gas Transmission Company (FGT) system. The Calypso Natural Gas Pipeline Project would be located onshore in Broward County, Florida and offshore in the Atlantic Ocean. The project would receive gas at the U.S./Bahamian Exclusive Economic Zone (EEZ) at a subsea connection to a 24-inch pipeline, referred to as the Grand Bahama Island Pipeline, transporting natural gas from a proposed liquefied natural gas (LNG) storage facility in Freeport, Grand Bahama Island. The LNG facility and the Grand Bahama Island Pipeline are non-jurisdictional facilities.

Hawksbill Creek LNG, Ltd., a Bahamian company, proposes to construct and operate the LNG terminal in Freeport, Grand Bahama Island that would receive LNG tankers arriving from international LNG supply locations. The LNG would be offloaded from the tankers and stored in specially designed storage tanks. From there, the LNG would be revaporized in heat exchangers on the terminal site and the resulting natural gas would be fed into the 24-inch-diameter offshore pipeline.

The FERC and MMS authorizations for this project would not extend eastward of the EEZ. The Government of the Bahamas regulates matters pertaining to the environment and safety and traditionally requires an environmental impact assessment as a condition to approving a project such as the LNG terminal and Grand Bahama Island Pipeline. The Government of the Bahamas is in the process of reviewing the environmental impact assessment for these facilities.

The LNG facility and the Grand Bahama Island Pipeline are not part of the facilities proposed in Calypso's application to the FERC. In its application, Calypso seeks authority to construct and operate the following:

• Offshore Pipeline Segment

The proposed offshore pipeline segment will be located in the Atlantic Ocean, off the southeast Florida coastline, and will consist of approximately 36 miles (31.2 nautical miles) of 24-inch-diameter pipeline (Offshore Pipeline). The Offshore Pipeline will traverse the Atlantic Ocean, starting at the U.S./Bahamian EEZ, passing through Federal and state waters, and ending at a shoreline entry at Port Everglades in Fort Lauderdale, Florida to connect with the proposed Calypso onshore pipeline segment.

The Port Everglades, Florida shore approach would be installed utilizing horizontal directional drilling (HDD) techniques to minimize impacts to three near-shore coral reefs. The pipeline would be directionally drilled out from an upland site at Nova Southeastern University to a point 4,616 feet from shore on the north side of the Port Everglades entrance channel. From this point, a 2,132-foot long by 25-foot wide ditch would be open cut through a spoil area to the origination of a second directional drill. The second directional drill would be used to extend the pipeline an additional 5,130 feet to the northeast exiting in about 120 feet of water. Finally, the pipeline between 120 feet and 200 feet of water would be covered with prefabricated flexible concrete mats. Where water depths exceed 200 feet, the offshore pipeline would be laid directly on the sea floor.

• Onshore Pipeline Segment

The proposed onshore pipeline segment will be located in Broward County, Florida and will consist of approximately 5.8 miles of 24-inch-diameter pipeline (Onshore Pipeline). The Onshore Pipeline will start at the terminus of the proposed Offshore Pipeline (the Port Everglades shoreline entry) and end at a proposed interconnection with FGT's existing 24-inch Lauderdale Lateral at Mile Post (MP) 1.6 (near Florida Power & Light Company's Fort Lauderdale Plant). A block valve would be located near the beginning of the Onshore Pipeline. A pressure regulation and meter station with a pig receiver and a block valve would be located at the terminus of the Onshore Pipeline.

The proposed facilities are summarized in Tables 1 and 2 below. The general locations of the project facilities are shown in Appendix 1.² If you are interested in obtaining detailed maps of a specific portion of the project send in your request using the form in Appendix 3.

² The appendices referenced in this notice are not being printed in the Federal Register. Copies are available on the Commission's website at the “RIMS” link or from the Commission's Public Reference and Files Maintenance Branch, 888 First Street, NE., Washington, DC 20426, or call (202) 208-1371. For instructions on connecting to RIMS refer to the last page of this ntoice. Copies of the appendices were sent to all those receiving this notice by mail.

Table 1.—Proposed Pipeline Facilities for the Calypso Natural Gas Pipeline Project
State | Location | Diameter (inches) | Mileposts: Begin | Mileposts: End | Length (statute miles)
Federal Waters | Offshore EEZ | 24 | 0.0 | 31.6 | 31.6
Florida Waters | Offshore | 24 | 31.6 | 36.0 | 4.4
Florida | Broward | 24 | 36.0 | 41.8 | 5.8
Project Total = |  |  |  |  | 41.8

Table 2.—Summary of Ancillary Facilities for the Calypso Natural Gas Pipeline Project
State | County | Facility | Approximate milepost | Description
Florida | Broward | Block Valve (Below Ground) | 36.02 | Nova Southeastern, University Oceanographic Center.
| Broward | Meter and Pressure Regulation Station, Pig Receiver | 41.72 | Disturbed area near FPL, Fort Lauderdale Cooling Pond.
| Broward | Block Valve (Above Ground) | 41.83 | Located at tie-in to FGT pipeline.

Land Requirements for Construction

Construction of the onshore portion of the Calypso Natural Gas Pipeline Project would affect a total of about 68.8 acres of land including 31.9 acres required for pipeline construction; 21.4 acres required for extra workspace; 10.0 acres required for a contractor yard; and 0.5 acres required for aboveground facilities. Total land requirements for the permanent right-of-way would be about 4.6 acres and less than 0.3 acres of land would be required for the operation of the new permanent aboveground facilities. The remaining approximately 64 acres of land affected by construction would be restored and allowed to revert to its former use.

Approximately 2.2 miles (38 percent) of the Onshore Pipeline would be directionally drilled or bored underground. Of the remaining 3.6 miles of the proposed route, approximately 2.8 miles (78 percent) would cross industrial/commercial land, and 3.4 miles (94 percent) would be installed parallel to existing roadway, pipeline, and utility rights-of-way. Calypso would typically use a 75-foot-wide construction right-of-way width. Additional extra temporary work areas may be necessary for waterbody, highway and railroad crossings; additional topsoil storage; and pipe storage and equipment yards.

Following construction and restoration of the right-of-way and temporary extra work spaces, Calypso would retain a new 10-foot-wide permanent easement for the 24-inch-diameter pipeline. The remaining portion of the construction right-of-way would be returned to landowners for their use without restrictions after appropriate reclamation efforts are successful.

Constructing the offshore portion of the Calypso Natural Gas Pipeline Project would affect 766 acres in Federal waters. Calypso has predicted that in Florida state waters construction of the pipeline would cause temporary direct impacts to about 1.7 acres of marine hardbottom habitat of which 0.3 acres is coral reef and the remainder is disturbed and/or transitional hardbottom habitat. Approximately 1.8 acres of sand bottom would be affected. Construction-generated sedimentation would affect an additional 4.3 acres of the spoil area, about 0.3 acres of reef, and 0.1 acres of reef-sand transition area.

The EIS Process

The National Environmental Policy Act (NEPA) requires the Commission to take into account the environmental impacts that could result from an action whenever it considers the issuance of a Certificate of Public Convenience and Necessity. NEPA also requires us ³ to discover and address concerns the public may have about proposals. This is called “scoping.” The main goal of the scoping process is to focus the analysis in the EIS on the important environmental issues. By this Notice of Intent, the Commission requests public comments on the scope of the issues it will address in the EIS. All comments received are considered during the preparation of the EIS. State and local government representatives are encouraged to notify their constituents of this proposed action and encourage them to comment on their areas of concern.

³ “We”, “us”, “our” refer to the environmental staff of the Office of Energy Projects (OEP).

The EIS will discuss impacts that could occur as a result of the construction and operation of the proposed project under these general headings:

1. Geology

2. Soils and Sediments

3. Water Resources

4. Wetlands, Barrier Beaches, and Submerged Aquatic Vegetation

5. Vegetation

6. Fish and Wildlife

7. Endangered and Threatened Species

8. Land Use, Recreation, and Visual Resources

9. Cultural Resources

10. Air Quality and Noise

11. Socioeconomics

12. Reliability and Safety

13. Alternatives

Our independent analysis of the issues will be in the Draft EIS which will be mailed to Federal, state, and local government agencies; elected officials; environmental and public interest groups; Indian tribes; affected landowners; local libraries and newspapers; other interested parties; and the Commission's official service list for this proceeding. A 45-day comment period will be allotted for review of the Draft EIS. We will consider all comments on the Draft EIS and revise the document, as necessary, before issuing a Final EIS. The Final EIS will include our responses to comments received and will be used by the Commission in its decision-making process to determine whether to approve the project.

To ensure that your comments are considered, please carefully follow the instructions in the Public Participation and Scoping Meeting section of this Notice of Intent.

Currently Identified Environmental Issues

The EIS will discuss impacts that could occur as a result of the construction and operation of the proposed project. We have already identified a number of issues that deserve attention based on a preliminary review of the proposed facilities, the environmental information provided by Calypso, and early input from intervenors. Some of these issues are listed below. This list is preliminary and may be changed based on your comments and our analysis. Currently identified environmental issues for the Calypso Natural Gas Pipeline Project include:

• Construction and operational effects on seagrasses, coral reefs, hard and soft bottom communities, mangroves, and aquatic organisms;

• Extent and effects of turbidity and sedimentation that may result from pipeline trenching and directional drilling in shallow waters;

• Potential effects of proposed shore approach on the Port Everglades entrance channel and on sensitive surface waters, including the Port Everglades and Intracoastal Waterway;

• Effects on wildlife and fisheries including essential fish habitat and fisheries of special concern, other commercial and recreational fisheries, or other species listed at the Federal, state, or local level;

• Potential fuel spills from the pipelay barges and associated vessel traffic;

• Potential effect on future land use of 27 parcels of land, and effect on 24 landowners and governmental agencies;

• Potential effects to resources and recreation associated with construction and operation in John U. Lloyd State Park;

• Potential effect to Broward County tree resources and on rare plants;

• Effect of construction on groundwater and surface water supplies;

• Potential introduction and control of non-native plant species;

• Effects on six federally endangered and threatened species including the West Indian manatee, loggerhead sea turtle, green sea turtle, hawksbill sea turtle, Kemp's ridley sea turtle, and leatherback sea turtle;

• Potential effects on offshore submerged cultural resources;

• Noise generated as a result of pipeline construction;

• Disruption of local roadways and commerce during construction;

• Potential impacts on 1.7 acres of non-forested wetlands;

• Potential effect of project on designated airport runway clearance zones;

• Cumulative effects of the proposed project with other projects, including other natural gas pipelines, which have been or may be proposed in the same region and similar time frames;

• Safety of the proposed pipeline.

Public Participation and Scoping Meeting

You can be involved in this project by providing us with your specific comments or concerns. By commenting, your concerns will be addressed in the EIS and considered by the Commission. You should focus on the potential environmental effects of the proposal, alternatives to the proposal (including alternative routes), and measures to avoid or lessen environmental impact. The more specific your comments, the more useful they will be. Please carefully follow these instructions to ensure that your comments are received in time and properly recorded:

Send one original and two copies of your letter to: David P. Boergers, Secretary, Federal Energy Regulatory Commission, 888 First St., NE., Room 1A, Washington, DC 20426.

Label one copy of the comments for the attention of the Gas/Hydro Group, PJ-11.3.

Reference Docket No. CP01-409-000.

Mail your comments so that they will be received in Washington, DC on or before September 30, 2001.

Comments may also be filed electronically via the Internet in lieu of paper. See 18 CFR 385.2001(a)(1)(iii) and the instructions on the Commission's web site at http://www.ferc.gov under the “e-Filing” link and the link to the User's Guide. Before you can file comments you will need to create an account which can be created by clicking on “Login to File” and then “New User Account.”

In addition to or in lieu of sending written comments, we invite you to attend the public scoping meeting the FERC will conduct in the project area. The location and time for this meeting is listed below.

Schedule for the Calypso Natural Gas Pipeline Project Environmental Impact Statement Public Scoping Meeting

Date and Time: September 12, 2001 at 7 pm

Location: I.T. Parker Community Center, 901 NE. Third Street, Dania Beach, FL 33004

Phone: (954) 924-3698

The public meeting is designed to provide you with more detailed information and another opportunity to offer your comments on the proposed project. Prior to the start of the meeting, company representatives will be available to informally discuss the project. Interested groups and individuals are encouraged to attend the meeting and to present comments on the environmental issues they believe should be addressed in the Draft EIS. A transcript of the meeting will be made so that your comments will be accurately recorded.

On the date of the meeting, the staff will also be visiting some project areas. Anyone interested in participating in a site visit may contact the Commission's Office of External Affairs for more details and must provide their own transportation.

Becoming an Intervenor

In addition to involvement in the EIS scoping process, you may want to become an official party to the proceeding known as an “intervenor”. Intervenors play a more formal role in the process. Among other things, intervenors have the right to receive copies of case-related Commission documents and filings by other intervenors. Likewise, each intervenor must provide 14 copies of its filings to the Secretary of the Commission and must send a copy of its filings to all other parties on the Commission's service list for this proceeding. If you want to become an intervenor you must file a motion to intervene according to Rule 214 of the Commission's Rules of Practice and Procedure (18 CFR 385.214) (see Appendix 2).⁴ Only intervenors have the right to seek rehearing of the Commission's decision.

⁴ Interventions may also be filed electronically via the Internet in lieu of paper. See the previous discussion on filing comments electronically.

Environmental Mailing List

This notice is being sent to individuals, organizations, and government entities interested in and/or potentially affected by the proposed project. It is also being sent to all identified potential right-of-way grantors. As details of the project become established, representatives of Calypso may also separately contact landowners, communities, and public agencies concerning project matters, including acquisition of permits and right-of-way easements.

All commentors will be retained on our mailing list. If you do not want to send comments at this time but still want to keep informed and receive copies of the Draft and Final EISs, you must return the Information Request (Appendix 3). If you do not send comments or return the Information Request, you will be taken off the mailing list.

Additional information about the proposed project is available from the Commission's Office of External Affairs at (202) 208-1088 or on the FERC website (www.ferc.gov) using the “RIMS” link to information in this docket number. Click on the “RIMS” link, select “Docket #” from the RIMS Menu, and follow the instructions. For assistance with access to RIMS, the RIMS helpline can be reached at (202) 208-2222.

Similarly, the “CIPS” link on the FERC Internet website provides access to the texts of formal documents issued by the Commission, such as orders, notices, and rulemakings. From the FERC Internet website, click on the “CIPS” link, select “Docket #” from the CIPS menu, and follow the instructions. For assistance with access to CIPS, the CIPS helpline can be reached at (202) 208-2222.

David P. Boergers,
Secretary.

[FR Doc. 01-22487 Filed 9-6-01; 8:45 am]

BILLING CODE 6717-01-P